DEPARTMENT OF TRANSPORTATION

Bureau of Transportation Statistics

Agency Information Collection Activities Under OMB Review: OMB No. 2139-0007 Omnibus Customer Satisfaction Surveys

AGENCY: Bureau of Transportation Statistics (BTS), DOT.

ACTION: Notice.

OMB Control Number: 2139-0007 (Omnibus Customer Satisfaction Survey Program).

Summary: BTS has submitted an Information Collection Request (ICR) described in this notice to the Office of Management and Budget (OMB) for review and approval as required under the Paperwork Reduction Act of 1995 (PRA), Public Law 104-13. This information collection is a targeted survey covered by OMB control number 2139-0007, which expires on April 30, 2004.

DATES: Comments must be submitted on or before October 21, 2002.

ADDRESSES: Send comments to the Office of Information and Regulatory Affairs, Office of Management and Budget, New Executive Building, Room 10202, Washington, DC 20502, ATTN: Desk Officer for the Bureau of Transportation Statistics. Comments should identify the OMB approval number and be submitted in duplicate. The OMB requests comments by October 21, 2002 to process the ICR expeditiously.

FOR FURTHER INFORMATION CONTACT: June Taylor Jones, Survey Statistician, Officer of Survey Programs, Bureau of Transportation Statistics, 400 Seventh Street, SW., Washington, DC 20590-0001; (202) 366-4743; fax: (202) 366-3385; e-mail: june.jones@bts.gov.

SUPPLEMENTARY INFORMATION: Title: Omnibus Customer Satisfaction Surveys—Targeted Survey.

OMB Approval Numbers: 2139-0007.

Executive Order (E.O.) 12862, Setting Customer Service Standards, directs certain federal agencies to conduct surveys to determine the kind and quality of services and products our customers want and their level of satisfaction with existing services and products. BTS surveys its own customers and assists other DOT agencies in their efforts to evaluate customer satisfaction. BTS uses the information it collects to improve product development and service delivery and determine whether additional products and services are needed. In accordance with the E.O., BTS is planning to conduct a survey of airline pilots (private, commercial, and transport) to assess the effectiveness of and their satisfaction with the Safety Seminar program conducted by the Federal Aviation Administration (FAA). A two-page questionnaire will be mailed to a sample of pilots. Results from the survey will be used to evaluate the usefulness of the information presented in the FAA-sponsored safety seminars and will assess the effectiveness of seminar presentation techniques. Pilots will also be asked to provide recommendations on what topics should be covered in future safety seminars and to identify the best methods for presenting safety information. Pilots who do not currently participate in the safety seminar program will be asked to provide recommended changes to the program that would increase the likelihood of their participation.

Estimated annual burden hours: This is a one-time survey and is not currently scheduled to be conducted on a regular basis. The questionnaire will require an average of 10 minutes to complete and the sample size will be approximately 6,000 pilots. The estimated response rate for this population is approximately 50% resulting in a total of 450 burden hours.

Estimated Annual Cost of Burden: (Government Only): The combined estimated cost to the government is $70,000. This figure includes salary costs based on hours, overhead, printing, and payment to contractors.

Susan Lapham,
Associate Director for Statistical Programs.

[FR Doc. 02-23920 Filed 9-19-02; 8:45 am]

BILLING CODE 4910-HY-P